DEPARTMENT OF COMMERCE

National Oceanic and Atmospheric Administration

50 CFR Part 660

[I.D. 081303D]

Western Pacific Fishery Management Council; Public Meeting

AGENCY: National Marine Fisheries Service (NMFS), National Oceanic and Atmospheric Administration (NOAA), Commerce.

ACTION: Notice of public meeting/public hearing.

SUMMARY: The Western Pacific Fishery Management Council (Council) will meet on September 23, 2003, at 12 noon Hawaiian Standard Time to review the draft regulatory amendment to the Fishery Management Plan for the Pelagics Fishery of the Western Pacific (Pelagics FMP), which includes a range of alternatives (including no action) that permit some access by pelagic longline vessels to the southern fishing grounds during April and May while continuing to conserve sea turtles. The Council will also consider and may take final action on conservation measures intended to offset any potential harm that the Hawaii-based longline fishery could still pose to turtles. In addition, the Council will discuss potential modifications to the current northern prohibition on shallow-set longlining and may take initial action on this issue.

ADDRESSES: The Council meeting will be held via telephone conference call at the Council offices, 1164 Bishop Street, Suite 1400, Honolulu Hawaii 96813; telephone: 808-522-8220; Call in number: 1-808-527-2929 PIN 5785; FAX: 808-522-8226.

FOR FURTHER INFORMATION CONTACT: Kitty M. Simonds, Executive Director; telephone: 808-522-8220.

SUPPLEMENTARY INFORMATION: The agenda during the Council meeting will include the following items:

1. Pelagic Fisheries

A. Status of Biological Opinion, litigation and mediation

B. Final action on modifications to the current longline seasonal southern area closure.

C. Initial action to consider modifications to the current northern prohibition on shallow-set longlining.

In 2002, the Council developed a regulatory framework adjustment to the Pelagics FMP which was intended to minimize interactions with, and harm to, Pacific sea turtles. These measures stemmed from the non-discretionary Reasonable and Prudent Alternative contained in a Biological Opinion issued in 2001 by NMFS under the Endangered Species Act. Among the various measures implemented were a prohibition on shallow-set longline fishing north of the equator, and a seasonal area closure from 15° N. lat. to the equator, and from 145° W. long. to 180° long. to all fishing by pelagic longline vessels during April and May of each year. These measures have contributed to reductions in sea turtle interactions. However, the southern area closure exacts a significant economic burden on the Hawaii-based longline fleet because it is unable to access these fishing grounds when bigeye and yellowfin tuna stocks are seasonally abundant during April and May. At its 118th meeting in June 2003, the Council took initial action to consider modifying the southern area closure to reduce the economic impact on the longline fishery while continuing to conserve turtles. The Council also directed its staff to continue preparation of a regulatory amendment for potential changes to the Pelagics FMP, including a detailed analysis of a range of modifications to the southern area closure and the impacts of those alternatives on sea turtles, fisheries, and the environment. At its 119th meeting, the Council will review this draft regulatory amendment to the Pelagics FMP, which includes a range of alternatives (including no action) that permit some access by pelagic longline vessels to the southern fishing grounds during April and May while continuing to conserve sea turtles. The Council will also consider and may take final action on conservation measures intended to offset any potential harm that the Hawaii-based longline fishery could still pose to turtles. In addition, the Council will discuss potential modifications to the current northern prohibition on shallow-set longlining and may take initial action on this issue.

2. Other Business

Although non-emergency issues not contained in this agenda may come before the Council for discussion, those issues may not be the subject of formal Council action during this meeting. Council action will be restricted to those issues specifically listed in this document and to any issue arising after publication of this document that requires emergency action under section 305(c) of the Magnuson-Stevens Fishery Conservation and Management Act, provided that the public has been notified of the Council's intent to take final action to address the emergency.

Special Accommodations

This meeting is physically accessible to people with disabilities. Requests for sign language interpretation or other auxiliary aids should be directed to Kitty M. Simonds, (808)522-8220 (voice) or (808)522-8226 (fax), at least 5 days prior to the meeting date.

Authority: 16 U.S.C. 1801 et seq.

Dated: August 22, 2003.
Bruce C. Morehead,
Acting Director, Office of Sustainable Fisheries, National Marine Fisheries Service.

[FR Doc. 03-21953 Filed 8-26-03; 8:45 am]

BILLING CODE 3510-22-S